DEPARTMENT OF AGRICULTURE

Vail Valley Forest Health Project; White River National Forest, Eagle County, Colorado

AGENCY: Forest Service, USDA.

ACTION: Notice of Intent to Prepare an Environmental Impact Statement in conjunction with planning the Vail Valley Forest Health Project.

SUMMARY: The USDA Forest Service, White River National Forest, gives notice of the agency's intent to prepare an environmental impact statement (EIS) to disclose the environmental effects of commercial and non-commercial timber cutting and prescribed fire, in conjunction with designing the Vail Valley Forest Health Project for the Holy Cross Ranger District of the White River National Forest. These proposed actions are being considered together because they represent either connected or cumulative actions as defined by the Council on Environmental Quality (40 CFR 1508.25). This notice describes the project area, the purpose and need for the action, the proposed action, potential environmental issues, information concerning public participation, estimated dates for filing the environmental impact statement, and the names and addresses of the agency officials who can provide additional information.

Project Area

The Vail Valley Forest Health Project area encompasses approximately 72,000 acres in the Vail Valley on the Holy Cross Ranger District of the White River National Forest, Eagle County, CO. It extends approximately 2.5 miles on either side of the I-70 corridor from Vail Pass on the east to the town of Avon on the west. The area is located in T6S, R79W, Sec 4-6, 8-10, 15, 16; T5S, R79W, Sec. 5-9, 16-18, 19-21, 28-30, 32-34; T4S, R79W, Sec 30-32; T5S, R80W, Sec 1-25; T4S, R80W, Sec 22, 27-34; T6S, R81W, Sec 3, 5, 6; T5S, R81W, Sec 1-36; T4S, R81W, Sec 25, 30-36; T6S, R82W, Sec 1, 2; T5S, R82W, Sec 1-3, 10-16, 21-27, 35, 36; and T4S, R82W, Sec 25, 26, 35, 36.

Purpose & Need

The mountain pine beetle population in the Vail Valley is currently at epidemic levels. The large beetle populations are responding to the homogenous landscape-level forest conditions. The high density of older, large-diameter lodgepole pine across this landscape provides ideal conditions for rapid spread of mountain pine beetle. Epidemic mountain pine beetle populations can be a natural component of lodgepole pine dominated ecosystems, however, such high levels can kill 50-70% of the mature lodgepole pine over vast areas. High mortality in the lodgepole pine in the Vail Valley would be detrimental to scenic quality, recreational opportunities and wildlife habitat in this highly valued area. As the dead trees begin to fall, the ability to maintain acceptable fuel loads within the wildland/urban interface is also compromised.

There is a need to modify the mountain pine beetle activity in this important setting. Manipulating lodgepole pine stand conditions in critical areas by creating a mosaic of forested ages, a variety of tree densities and sizes and increasing the aspen component will work toward managing future mountain pine beetle risk and wildland fuel hazard. There is also a need to maintain acceptable fuel loads in the wildland/urban interface by removing dead, dying, and high-risk trees while they have some economic value to offset the treatment cost.

Much of the shrublands in the Vail Valley are outside their historic range of variability due to fire suppression. This has resulted in homogenous, over-mature shrublands that pose a risk of higher intensity fires due to the buildup of hazardous fuels.

Creating a mosaic of age and structural classes in the shrublands will reduce the intensity and severity of wildfires and their detrimental effects to these mountain communities, such as higher risk to firefighters, loss of homes, and landslides.

The Project proposes to use a variety of techniques to improve stand structure and species diversity and consequently the health of the forest, while protecting the heritage, recreation, visual, watershed and wildlife resources.

The Proposed Action

Through this proposed action, the White River National Forest intends to:

Manage the lodgepole pine stands in the Vail Valley south of I-70 for future mountain pine beetle (MPB) risk and wildland fuel hazard by increasing structural and species diversity using vegetation treatments. Approximately 1215 acres of vegetation management are proposed.

• 871 acres of lodgepole pine stands will be thinned to leave approximately 50-70% of the basal area. This will open up the stands to increased sun and wind to disrupt the MPB broods. In areas where the dbh is 10-11 inches or greater, small patch cuts will be made to remove the primary MPB host trees.

• 344 acres of aspen within the lodgepole pine stands will be enhanced in the wildland/urban interface for forested fuel breaks and for MPB flight interruption. For patches of aspen, the pine will be removed within the aspen and for 1-2 tree lengths around the patch. This area is within an inventoried roadless area as identified by the 2002 White River National Forest Land and Resource Management Plan.

Manage the shrublands and aspen stands north of I-70 to move them toward their historic range of variability. Mechanical vegetation treatments and prescribed fire will create a mosaic of age and structural classes in order to reduce the intensity and severity of wildfires in the wildland/urban interface. Approximately 1884 acres of vegetation management are proposed.

• 905 acres of shrublands will be broadcast burned. This will change the fuel types to reduce future potential wildfire intensity and aid firefighters in wildfire suppression.

• 521 acres in the Eagle's Nest Wilderness will be broadcast burned to maintain and improve aspen stands, reducing future potential wildfire intensity and rate of spread. This will create a forested fuel break between conifer stands and the town of Vail and will help facilitate wildland fire use should a wildfire start in the wilderness area.

• 231 acres within the wildland/urban interface and outside the Eagle's Nest Wilderness will be treated to maintain and improve aspen stands, reducing future potential wildfire intensity and rate of spread. Dead trees will be cut, piled and burned. The area will then be broadcast burned. This will create a forested fuel break between confier stands and the town of Vail and will help facilitate wildland fire use should a wildfire start in the wilderness area.

• 227 acres within the wildland/urban interface will be treated to maintain and improve aspen stands, reducing future potential wildfire intensity and rate of spread. All conifers will be cut and aspen will be patch-cut, piled and burned within 200′ of private land. This will create a forested fuel break between confier stands and the town of Vail.

Project Design and Mitigation Measures

All proposed treatments and activities would follow the standards and guidelines found in the Revised White River Land and Resource Management Plan—2002.

Roadless

No road construction or commercial timber harvest is proposed in the inventoried roadless areas designated by the Revised Forest Plan.

Preliminary Issues

Issues identified to date include: impacts of timber harvesting and prescribed burning on visual quality in a recreation setting; the impacts of timber harvesting and prescribed burning on water quality; the impacts of prescribed burning in a wilderness area; impacts of vegetation management in an inventoried roadless area; potential impacts to heritage resources; potential spread of noxious weeds; air quality impacts from burning; and effects on threatened, endangered, sensitive and management indicator species.

Possible Alternatives

Possible alternatives to the proposed action may include no burning within the Eagle's Nest Wildness area, no vegetation management within the inventoried roadless area, or a combination of the activities described above.

Involving the Public

Pursuant to Part 36 Code of Federal Regulations (CFR) 219.10(g), the Forest Supervisor for the White River National Forest gives notice of the agency's intent to prepare an environmental impact statement for the Vail Valley Forest Health Project described above. The Forest Service is seeking information, comments, and assistance from individuals, organizations and federal, state, and local agencies that may be interested in or affected by the proposed action (36 CFR 219.6).

Public participation will be solicited by notifying in person and/or by mail known interested and affected publics. A legal notice and news releases will be used to give the public general notice. Public participation activities will include requests for written comments and an open house to be held at a local venue. The public is invited to help identify issues and define the range of alternatives to be considered in the environmental impact statement.

A reasonable range of alternatives will be evaluated and reasons will be given for eliminating some alternatives from detailed study. A “non-action alternative” is required, meaning that management will not change the present condition. Alternatives will provide different ways to address and respond to public issues, management concerns, and resource opportunities identified during the scoping process. Scoping comments and existing condition reports will be used to develop alternatives.

DATES: Comments concerning the proposed action should be received in writing by November 29, 2003.

ADDRESSES: Send written comments to: Vail Valley Forest Health Project, Holy Cross Ranger District, P.O. Box 190, Minturn, CO 81645.

FOR FURTHER INFORMATION CONTACT: Peech Keller at (970) 468-5400 or Bob Currie at (970) 827-5715.

Release and Review of the EIS

The DEIS is expected to be filed with the Environmental Protection Agency (EPA) and to be available for public comment in June 2004. At that time, the EPA will publish a notice of availability for the DEIS in the Federal Register. The comment period on the DEIS will be 45 days from the date the EPA publishes the notice of availability in the Federal Register.

The Forest Service believes, at this early stage, it is important to give reviewers notice of several court rulings related to public participation in the environmental review process. First, reviewers of the DEIS must structure their participation in the environmental review of the proposal so that it is meaningful and alerts an agency to the reviewer's position and contentions; Vermont Yankee Nuclear Power Corp. v. NRDC. 435 U.S. 519, 553 (1978). Also, environmental objections that could be raised at the DEIS stage but are not raised until after completion of the Final environmental Impact Statement (FEIS) may be waived or dismissed by the courts; City of Angoon v. Hodel, 803 F. 2d 1016, 1022 (9th Cir. 1986) and Wisconsin Heritages, Inc., v. Harris, 490 F. Supp. 1334, 1338 (E.D. Wis. 1980). Because of these court rulings, it is very important that those interested in this proposed action participate by the close of the 45 day comment period so that substantive comments and objections are made available to the Forest Service at a time when it can meaningfully consider them and respond to them in the FEIS.

To assist the Forest Service in identifying and considering issues and concerns on the proposed actions, comments on the DEIS should be as specific as possible. It is also helpful if comments refer to specific pages or chapters of the draft statement. Comments may also address the adequacy of the DEIS or the merits of the alternatives formulated and discussed in the statements. Reviewers may wish to refer to the Council on Environmental Quality Regulations for implementing the procedural provisions of the National Environmental Policy Act at 40 CFR 1503.3 in addressing these points.

After the comment period ends on the DEIS, comments will be analyzed, considered, and responded to by the Forest Service in preparing the Final EIS. The FEIS is scheduled to be completed in September 2004. The responsible official will consider the comments, responses, environmental consequences discussed in the FEIS, and applicable laws, regulations, and policies in making decisions regarding these revisions. The responsible official will document the decisions and reasons for the decisions in a Record of Decision for the revised Plan. The decision will be subject to appeal in accordance with 36 CFR 217.

Responsible Official

Martha J. Ketelle, Forest Supervisor, White River National Forest. P.O. Box 948, Glenwood Springs, CO 81602-0948. “As the Responsible Official, I will decide which, if any, of the proposed projects will be implemented. I will document the decision and reasons for the decision in the Record of Decision. That decision will be subject to Forest Service appeal regulations.”

Dated: October 17, 2003.
Martha J. Ketelle,
Forest Supervisor, White River National Forest.

[FR Doc. 03-26719 Filed 10-22-03; 8:45 am]

BILLING CODE 3410-11-m